DEPARTMENT OF COMMERCE

National Oceanic and Atmospheric Administration

[RTID 0648-XA806]

Caribbean Fishery Management Council; Public Meeting

AGENCY: National Marine Fisheries Service (NMFS), National Oceanic and Atmospheric Administration (NOAA), Commerce.

ACTION: Notice of a public meetings.

SUMMARY: The Caribbean Fishery Management Council's (Council) Scientific and Statistical Committee (SSC) and the Ecosystem-Based Fishery Management Technical Advisory Panel (EBFM TAP) will hold a two-day public virtual meeting each, to address the items contained in the tentative agenda included in the SUPPLEMENTARY INFORMATION. The SSC and TAP will hold a one-day joint public virtual meeting.

DATES: The public virtual meetings will be held as follows:

SSC, February 1-2, 2021, from 10 a.m. to 5 p.m.; SSC and EBFM TAP joint meeting, February 3, 2021, from 10 a.m. to 1:30 p.m.; and EBFM TAP meeting, February 4, 2021, from 10 a.m. to 5 p.m. and February 5, from 9 a.m. to 12 noon. All meetings will be at Atlantic Standard Time.

ADDRESSES: You may join the SSC and TAP public virtual meetings via Zoom, from a computer, tablet or smartphone by entering the following address:

Join Zoom Meeting

https://us02web.zoom.us/j/87172662536?pwd=dlR3VnVCem5uV1JHa2hiSGZjTVMwZz09

Meeting ID: 871 7266 2536

Passcode: 998029

One tap mobile

+17879667727,, 87172662536#,,,, *998029# Puerto Rico

+19399450244,, 87172662536#,,,, *998029# Puerto Rico

Dial by your location

+1 787 966 7727 Puerto Rico

+1 939 945 0244 Puerto Rico

+1 787 945 1488 Puerto Rico

Meeting ID: 871 7266 2536

Passcode: 998029

Find your local number: https://us02web.zoom.us/u/kv014d48Y

In case there are problems and we cannot reconnect via Zoom, the meeting will continue using GoToMeeting. You may join from a computer, tablet or smartphone by entering the following address:

Please join the meeting from your computer, tablet or smartphone. https://global.gotomeeting.com/join/715099885

Join from a video-conferencing room or system.

Dial in or type: 67.217.95.2 or inroomlink.goto.com Meeting ID: 715 099 885 Or dial directly: 715099885@67.217.95.2 or 67.217.95.2##715099885 New to GoToMeeting? Get the app now and be ready when the meeting starts: https://global.gotomeeting.com/install/715099885.

FOR FURTHER INFORMATION CONTACT: Dr. Graciela García-Moliner, Caribbean Fishery Management Council, 270 Muñoz Rivera Avenue, Suite 401, San Juan, Puerto Rico 00918-1903, telephone: (787) 403-8337.

SUPPLEMENTARY INFORMATION: The following items included in the tentative agendas will be discussed:

SSC Meeting

February 1, 2021

10 a.m.-10:15 a.m. AST

—Call to Order

—Roll Call

—Adoption of Agenda

10:15 a.m.-12:30 p.m.

—Overview and Discussion SSC's Ecosystem Conceptual Model (ECM) Work to Date—Richard Appeldoorn (Presented at 172nd CFMC Meeting)

12:30 p.m.-1:30 p.m.

—Lunch

1:30 p.m.-3 p.m.

—Review and Finalize Ecosystem Conceptual Model

3 p.m.-3:15 p.m.

—Break

3:15 p.m.-5 p.m.

—Finalize Ecosystem Conceptual Model

—One ECM or 3 ECMs, one each for Puerto Rico, St. Thomas/St. John and St. Croix?

—ECM integration into EBFM

—SSC Recommendations to the CFMC

February 2, 2021

10 a.m.-12 p.m. AST

—Update Spiny Lobster Acceptable Biological Catch—Adyan Rios, SEFSC

—IBFMP Spiny Lobster Amendment—Sarah Stephenson, SERO Review Components of the Draft Framework Amendment to the Puerto Rico, St. Thomas/St. John, and St. Croix Fishery Management Plans (FMP) to Modify Spiny Lobster Management Reference Points Based on SEDAR 57 Stock Assessments.

12 noon-1 p.m.

—Lunch

1 p.m.-3 p.m.

—SSC Recommendations to CFMC on Spiny Lobster

3 p.m.-3:15 p.m.

—Break

3:15 p.m.-5 p.m.

—Other Business

SSC and EBFM TAP Joint Meeting

February 3, 2021

10 a.m.-12:30 p.m. AST

—Call to Order

—Roll Call

—Presentation: Puerto Rico [long-term] Coral Reef Monitoring Program (PRCRMP) data layer in the MBON Data Portal—Miguel Figuerola Hernández, PRDNER/CARICOOS

12:30 p.m.-1:30 p.m.

—General Discussion by SSC/TAP

—Other Business

—Joint SSC/TAP Next Meeting

EBFM TAP Meeting

February 4, 2021

10 a.m.-10:15 a.m. AST

—Call to Order

—Roll Call

—Adoption of the Agenda

—Review of Minutes from Virtual Meeting (August 3-4, 2020).

10:15 a.m.-12:30 p.m.

—Update—Ecosystem-Based Efforts: What is Going on?

a. Lenfest—JJ Cruz Motta, Tarsila Seara, Stacey Williams

b. Stakeholders Meetings—Ori Tzadik

c. Outreach and education Efforts on ECM- Alida Ortiz

d. SEAMAP-Caribbean update—JJ Cruz Motta

e. Status of the Ecosystem (ESR)—Kelly Montenero, SEFSC

f. SSC Report—Richard Appeldoorn, SSC Chair

g. DAPs CMs—Liajay Rivera García/Graciela García-Moliner

h. Marine Protected Areas Diana Beltrán

i. Other efforts: MBON USVI, MBON Mesophotic data

j. Relationship and Synergy Among All Points Above and IBFMPs

12:30 p.m.-1:30 p.m.

—Lunch Break

1:30 p.m.-2 p.m.

—Development of the Fishery Ecosystem Plan -Update

—Purpose and Need/Goals and Objectives

—Management/Legal Background Update

2 p.m.-5 p.m.

—Island-Based Considerations Update—María López, SERO

—New considerations of Amendments

a. U.S. Virgin Islands

i. St. Croix

ii. St. Thomas/St. John

b. Puerto Rico

—U.S. Caribbean Considerations

a. SERO/NOAA Restoration Center

b. NMFS/SERO Habitat Conservation Division

—Caribbean Basin Considerations

—Regional/Global Considerations

—Management Within an Ecosystem Context

—Research Needs

February 5, 2021

9 a.m.-10:30 a.m. AST

—Continue Discussion from Previous Day

10:30 a.m.-10:45 a.m.

—Break

10:45 a.m.-12 p.m.

—Recommendations to the CFMC

—Other Business

—Adjourn

The order of business may be adjusted as necessary to accommodate the completion of agenda items. The meetings will begin on February 1, 2021, at 10 a.m. AST, and will end on February 5, 2021, at 12 p.m. AST. Other than the start time, interested parties should be aware that discussions may start earlier or later than indicated, at the discretion of the Chairs. In addition, the meetings may be completed prior to the date established in this notice.

For any additional information on these public virtual meetings, please contact Dr. Graciela García-Moliner, Caribbean Fishery Management Council, 270 Muñoz Rivera Avenue, Suite 401, San Juan, Puerto Rico, 00918-1903, telephone: (787) 403-8337.

(Authority: 16 U.S.C. 1801 et seq.)

Dated: January 12, 2021.
Rey Israel Marquez,
Acting Deputy Director, Office of Sustainable Fisheries, National Marine Fisheries Service.

[FR Doc. 2021-00913 Filed 1-14-21; 8:45 am]

BILLING CODE 3510-22-P